DEPARTMENT OF ENERGY

Federal Energy Regulatory Commission

Combined Notice of Filings #1

November 16, 2010.

Take notice that the Commission received the following electric rate filings:

Docket Numbers: ER10-64-003.

Applicants: CPV Keenan II Renewable Energy Company, Inc.

Description: Notification of Non-Material Change in Facts of CPV Keenan II Renewable Energy Company, LLC.

Filed Date: 11/15/2010.

Accession Number: 20101115-5168.

Comment Date: 5 p.m. Eastern Time on Monday, December 6, 2010.

Docket Numbers: ER10-1806-002.

Applicants: AP Holdings, LLC.

Description: AP Holdings, LLC submits Notification of Non-Material Change in Status.

Filed Date: 11/10/2010.

Accession Number: 20101110-0201.

Comment Date: 5 p.m. Eastern Time on Wednesday, December 1, 2010.

Docket Numbers: ER10-2062-001.

Applicants: New York Independent System Operator, Inc.

Description: New York Independent System Operator, Inc. submits tariff filing per 35: Compliance Filing—IBRT and RLS re September 29 Orders to be effective 10/21/2010.

Filed Date: 11/15/2010.

Accession Number: 20101115-5163.

Comment Date: 5 p.m. Eastern Time on Monday, December 6, 2010.

Docket Numbers: ER11-2078-000.

Applicants: PJM Interconnection, L.L.C.

Description: PJM Interconnection, L.L.C. submits tariff filing per 35.13(a)(2)(iii): WMPA No. 2646, Queue V3-011, SX Landfill Energy, LLC and JCP&L to be effective 9/10/2010.

Filed Date: 11/10/2010.

Accession Number: 20101110-5147.

Comment Date: 5 p.m. Eastern Time on Wednesday, December 1, 2010.

Docket Numbers: ER10-2250-001.

Applicants: Portland General Electric Company.

Description: Portland General Electric Company submits its Reserve Energy Service Baseline Filing, to be effective 8/17/2010.

Filed Date: 11/10/2010.

Accession Number: 20101110-5010.

Comment Date: 5 p.m. Eastern Time on Wednesday, December 1, 2010.

Docket Numbers: ER10-2624-001.

Applicants: New Dominion Energy Cooperative.

Description: New Dominion Energy Cooperative submits tariff filing per 35: Market-Based Tariff to be effective 9/14/2010.

Filed Date: 11/15/2010.

Accession Number: 20101115-5159.

Comment Date: 5 p.m. Eastern Time on Monday, December 6, 2010.

Docket Numbers: ER10-2735-001.

Applicants: Anthracite Power and Light Company.

Description: Anthracite Power and Light Company submits revised version of its Market-Based Authority Tariff, to be effective 9/17/2010.

Filed Date: 11/10/2010.

Accession Number: 20101110-5139.

Comment Date: 5 p.m. Eastern Time on Wednesday, December 1, 2010.

Docket Numbers: ER10-3153-001.

Applicants: City of Vernon, California.

Description: City of Vernon, California submits tariff filing per 35: Vernon Baseline TO Tariff—Supplemental Filing of TOC to be effective 1/1/2011.

Filed Date: 11/15/2010.

Accession Number: 20101115-5161.

Comment Date: 5 p.m. Eastern Time on Monday, November 29, 2010.

Docket Numbers: ER11-2078-000.

Applicants: PJM Interconnection, L.L.C.

Description: PJM Interconnection, L.L.C. submits tariff filing per 35.13(a)(2)(iii): WMPA No. 2646, Queue V3-011, SX Landfill Energy, LLC and JCP&L to be effective 9/10/2010.

Filed Date: 11/10/2010.

Accession Number: 20101110-5147.

Comment Date: 5 p.m. Eastern Time on Wednesday, December 1, 2010.

Docket Numbers: ER11-2079-000.

Applicants: Duke Energy Fayette II, LLC.

Description: Duke Energy Fayette II, LLC submits tariff filing per 35.1: MBR Filing to be effective 1/9/2011.

Filed Date: 11/10/2010.

Accession Number: 20101110-5148.

Comment Date: 5 p.m. Eastern Time on Wednesday, December 1, 2010.

Docket Numbers: ER11-2080-000.

Applicants: Duke Energy Commercial Asset Management.

Description: Duke Energy Commercial Asset Management, Inc. submits Notice of Succession notifying the Commission of a name change to DEAM, to be effective 10/14/2010.

Filed Date: 11/10/2010.

Accession Number: 20101110-5153.

Comment Date: 5 p.m. Eastern Time on Wednesday, December 1, 2010.

Docket Numbers: ER11-2081-000.

Applicants: California Pacific Electric Company, LLC.

Description: California Pacific Electric Company, LLC submits tariff filing per 35.1: Baseline Tariff for DCA and BCA to be effective 12/31/2010.

Filed Date: 11/10/2010.

Accession Number: 20101110-5154.

Comment Date: 5 p.m. Eastern Time on Wednesday, December 1, 2010.

Docket Numbers: ER11-2085-000.

Applicants: Calpine Corporation.

Description: Request for Limited Waiver of CAISO Tariff Appendix Y To Permit Full Recovery of Interconnection Financial Security of Calpine Corporation.

Filed Date: 11/10/2010.

Accession Number: 20101110-5186.

Comment Date: 5 p.m. Eastern Time on Wednesday, December 1, 2010.

Docket Numbers: ER11-2124-000.

Applicants: PacifiCorp.

Description: PacifiCorp submits tariff filing per 35.13(a)(2)(iii): Tri State Amended and Restated Transmission Agreement to be effective 11/30/2010.

Filed Date: 11/15/2010.

Accession Number: 20101115-5110.

Comment Date: 5 p.m. Eastern Time on Monday, December 6, 2010.

Docket Numbers: ER11-2125-000.

Applicants: Startrans IO, LLC.

Description: Startrans IO, LLC submits tariff filing per 35.13(a)(2)(iii): Startrans IO—2011 update to the TRBAA to be effective 1/1/2011.

Filed Date: 11/15/2010.

Accession Number: 20101115-5135.

Comment Date: 5 p.m. Eastern Time on Monday, December 6, 2010.

Docket Numbers: ER11-2126-000.

Applicants: Public Service Company of Colorado.

Description: Public Service Company of Colorado submits tariff filing per 35.13(a)(2)(iii): 20101115_Electric Coordination Tariff to be effective 1/14/2011.

Filed Date: 11/15/2010.

Accession Number: 20101115-5140.

Comment Date: 5 p.m. Eastern Time on Monday, December 6, 2010.

Docket Numbers: ER11-2127-000.

Applicants: Terra-Gen Dixie Valley, LLC.

Description: Terra-Gen Dixie Valley, LLC submits tariff filing per 35.1: Terra-Gen Dixie Valley, LLC Open Access Transmission Tariff to be effective 1/14/2011.

Filed Date: 11/15/2010.

Accession Number: 20101115-5156.

Comment Date: 5 p.m. Eastern Time on Monday, December 6, 2010.

Docket Numbers: ER11-2128-000.

Applicants: California Independent System Operator Corporation.

Description: California Independent System Operator Corporation submits tariff filing per 35: 2010-11-15 CAISO's Convergence Bidding Compliance Filing to be effective 2/1/2011.

Filed Date: 11/15/2010.

Accession Number: 20101115-5157.

Comment Date: 5 p.m. Eastern Time on Monday, December 6, 2010.

Docket Numbers: ER11-2129-000.

Applicants: Sierra Pacific Power Company.

Description: Notice of Cancellation of Service Agreement No. 3, Electric Service Agreement with PG&E.

Filed Date: 11/15/2010.

Accession Number: 20101115-5201.

Comment Date: 5 p.m. Eastern Time on Monday, December 6, 2010.

Docket Numbers: ER11-2130-000.

Applicants: Ontario Power Generation Energy Trading, Inc.

Description: Ontario Power Generation Energy Trading, Inc. submits tariff filing per 35: OPGET ASM Filing to be effective 1/15/2011.

Filed Date: 11/16/2010.

Accession Number: 20101116-5045.

Comment Date: 5 p.m. Eastern Time on Tuesday, December 7, 2010.

Docket Numbers: ER11-2131-000.

Applicants: Entergy Arkansas, Inc.

Description: Entergy Arkansas, Inc. submits tariff filing per 35.13(a)(2)(iii): MSS-3 Spindletop Compliance Filing to be effective 11/16/2010.

Filed Date: 11/16/2010.

Accession Number: 20101116-5069.

Comment Date: 5 p.m. Eastern Time on Tuesday, December 7, 2010.

Docket Numbers: ER11-2132-000.

Applicants: Entergy Gulf States Louisiana, L.L.C.

Description: Entergy Gulf States Louisiana, L.L.C. submits tariff filing per 35.13(a)(2)(iii): MSS-3 Spindletop Compliance Filing to be effective 11/16/2010.

Filed Date: 11/16/2010.

Accession Number: 20101116-5073.

Comment Date: 5 p.m. Eastern Time on Tuesday, December 7, 2010.

Docket Numbers: ER11-2133-000.

Applicants: Entergy Louisiana, LLC.

Description: Entergy Louisiana, LLC submits tariff filing per 35.13(a)(2)(iii): MSS-3 Spindletop Compliance Filing to be effective 11/16/2010.

Filed Date: 11/16/2010.

Accession Number: 20101116-5077.

Comment Date: 5 p.m. Eastern Time on Tuesday, December 7, 2010.

Docket Numbers: ER11-2134-000.

Applicants: Entergy Mississippi, Inc.

Description: Entergy Mississippi, Inc. submits tariff filing per 35.13(a)(2)(iii): MSS-3 Spindletop Compliance Filing to be effective 11/16/2010.

Filed Date: 11/16/2010.

Accession Number: 20101116-5078.

Comment Date: 5 p.m. Eastern Time on Tuesday, December 7, 2010.

Docket Numbers: ER11-2135-000.

Applicants: Entergy New Orleans, Inc.

Description: Entergy New Orleans, Inc. submits tariff filing per 35.13(a)(2)(iii): MSS-3 Spindletop Compliance Filing to be effective 11/16/2010.

Filed Date: 11/16/2010.

Accession Number: 20101116-5079.

Comment Date: 5 p.m. Eastern Time on Tuesday, December 7, 2010.

Docket Numbers: ER11-2136-000.

Applicants: Entergy Texas, Inc.

Description: Entergy Texas, Inc. submits tariff filing per 35: MSS-3 Spindletop Compliance Filing to be effective 11/16/2010.

Filed Date: 11/16/2010.

Accession Number: 20101116-5080.

Comment Date: 5 p.m. Eastern Time on Tuesday, December 7, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-30058 Filed 11-29-10; 8:45 am]

BILLING CODE 6717-01-P